DEPARTMENT OF THE INTERIOR

Bureau of Land Management

[LLCON06000 L1610000.DP0000]

Notice of Intent To Solicit Nominations for the Dominguez-Escalante National Conservation Area Advisory Council, Colorado

AGENCY: Bureau of Land Management, Interior.

ACTION: Notice.

SUMMARY: The purpose of this notice is to solicit public nominations for eight positions on the Dominguez-Escalante National Conservation Area (D-E NCA) Advisory Council (Council). The Secretary of the Interior (Secretary) was directed by the Omnibus Public Lands Management Act of 2009 to establish the D-E NCA Council. The 10-member Council was formed in December 2010 to provide recommendations to the Secretary through the Bureau of Land Management (BLM) during the development of a resource management plan (RMP) for the D-E NCA. The appointments of eight members of the Council are scheduled to expire in November 2016. This call for nominations is to fill those eight expiring appointments.

DATES: Submit nomination packages on or before July 11, 2016.

ADDRESSES: Send completed Council nominations to Collin Ewing, D-E NCA Interim Manager, Grand Junction Field Office, 2815 H Road, Grand Junction, CO 81506. Nomination forms may be obtained at the Grand Junction Field Office at the above address; at the BLM Uncompahgre Field Office, 2465 S. Townsend Ave., Montrose, CO 81401; or online at http://www.blm.gov/co/st/en/nca/denca/denca_rmp/DENCA_Resource_Advisory_Council.html.

FOR FURTHER INFORMATION CONTACT: Collin Ewing, D-E NCA Manager, 970-244-3049, cewing@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The D-E NCA and Dominguez Canyon Wilderness, located within the D-E NCA, were established by the Omnibus Public Land Management Act of 2009, Public Law 111-11 (Act). The D-E NCA is comprised of approximately 210,172 acres of public land, including approximately 66,280 acres designated as Dominguez Canyon Wilderness, located in Delta, Montrose and Mesa counties, Colorado. The purpose of the D-E NCA is to conserve and protect the land's unique resources for the benefit and enjoyment of present and future generations. These values include the geological, cultural, archaeological, paleontological, natural, scientific, recreational, wilderness, wildlife, riparian, historical, educational, and scenic resources of the public lands as well as the water resources of area streams based on seasonally available flows that are necessary to support aquatic, riparian, and terrestrial species and communities. According to the Act, the 10-member council must include, to the extent practicable:

1. One member appointed after considering the recommendations of the Mesa County Commission;

2. One member appointed after considering the recommendations of the Montrose County Commission;

3. One member appointed after considering the recommendations of the Delta County Commission;

4. One member appointed after considering the recommendations of the permittees holding grazing allotments within the D-E NCA or the wilderness; and

5. Six members who reside in or within reasonable proximity to Mesa, Delta or Montrose counties with backgrounds that reflect:

a. The purposes for which the D-E NCA or wilderness was established; and

b. The interests of the stakeholders that are affected by the planning and management of the D-E NCA and wilderness.

Appointments for a position based on the recommendations of the Delta County Commission and a position representing wildlife interests have already been filled and will not expire this year. The BLM is soliciting nominations for the other eight positions on the Council. Nominees should reside in or within close proximity to Mesa, Delta, or Montrose counties. Any individual or organization may nominate one or more persons to serve on the Council. Individuals may nominate themselves for Council membership. The Obama Administration prohibits individuals who are currently federally-registered lobbyists from serving on all Federal Advisory Committee Act (FACA) and non-FACA boards, committees or councils. Nomination forms may be obtained from the BLM Grand Junction or Uncompahgre field offices, or may be downloaded from the following Web site: http://www.blm.gov/co/st/en/nca/denca/denca_rmp/DENCA_Resource_Advisory_Council.html.

Nomination packages must include a completed nomination form, letters of reference from the represented interests or organizations, and any other information relevant to the nominee's qualifications. Letters of reference can be from an organization or from anyone who is familiar with the nominee's qualifications to serve on the Council. Appointments are open to new and currently seated members. The Grand Junction and Uncompahgre field offices will review the nomination packages in coordination with the affected counties and the Governor of Colorado before forwarding recommendations to the Secretary, who will make the appointments.

The Council shall be subject to the FACA, 5 U.S.C. App. 2; and the Federal Land Policy and Management Act of 1976, 43 U.S.C. 1701 et seq. This notice is being provided pursuant to 43 CFR 1784.4-1.

Ruth Welch,
BLM Colorado State Director.

[FR Doc. 2016-13772 Filed 6-9-16; 8:45 am]

BILLING CODE 4310-JB-P